DEPARTMENT OF HEALTH AND HUMAN SERVICES

Centers for Medicare & Medicaid Services

[Document Identifiers: CMS-10887]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by March 26, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10887 The Medicare Advantage and Prescription Drug Programs: Part C and Part D Medicare Advantage Prescription Drug (MARx) System Updates for the Medicare Prescription Payment Plan Program

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: The Medicare Advantage and Prescription Drug Programs: Part C and Part D Medicare Advantage Prescription Drug (MARx) System Updates for the Medicare Prescription Payment Plan Program; Use: The IRA amended the Act by adding section 1860D-2(b)(2)(E) which, beginning January 1, 2025, establishes the Medicare Prescription Payment Plan program (hereinafter referred to as the “program”). Under this program, MA Organizations offering Part D coverage and Part D sponsors (collectively “Part D plans” or “Plans”) are required to offer enrollees the option to pay their Part D cost sharing in monthly amounts spread out over the plan year based on the formulae described in section 1860D-2(b)(2)(E)(iv) of the Act.

To effectively monitor the program, Part D plans will be required to report data elements related to the program at the beneficiary, contract, and Plan Benefit Package (PBP)1 levels beginning in Contract Year (CY) 2025. In this information collection package, CMS addresses the proposal to require Part D plans to submit beneficiary-level data elements into the MARx system via a program-specific transaction (separate from the enrollment file). In accordance with the Plan Communication User Guide (PCUG), plans may submit multiple transaction files during any CMS business day, Monday through Friday. Plan transactions are processed as received; there is no minimum or maximum limit to the number of files that Plans may submit in a day. In general, transaction and processing occur throughout the Current Calendar Month (CCM). For CY 2025, CMS will not require independent data validation for this new MARx reporting requirement. Form Number: CMS-10887 (OMB control number: 0938-New); Frequency: Monthly; Affected Public: Private, Federal Government, Business or other for profits, Not-for-profits institutions; Number of Respondents: 856; Total Annual Responses: 3,200,856; Total Annual Hours: 59,958. (For policy questions regarding this collection contact Michael Brown at (872) 287-1370 or michael.brown3@cms.hhs.gov.)

Dated: January 23, 2024.
William N. Parham, III
Director, Division of Information Collections and Regulatory Impacts, Office of Strategic Operations and Regulatory Affairs.

[FR Doc. 2024-01582 Filed 1-25-24; 8:45 am]

BILLING CODE 4120-01-P